DEPARTMENT OF TRANSPORTATION

National Highway Traffic Safety Administration

Withdrawal of Petition for Exemption From the Federal Motor Vehicle Theft Prevention Standard; Ford Motor Company

AGENCY: National Highway Traffic Safety Administration (NHTSA), Department of Transportation (DOT).

ACTION: Notice; withdrawal of petition for exemption.

SUMMARY: This notice withdraws the petition by Ford Motor Company (Ford) for an exemption from the parts marking requirements of the vehicle theft prevention standard for the Ford Thunderbird vehicle line.

FOR FURTHER INFORMATION CONTACT: Ms. Rosalind Proctor, Office of International Policy, Fuel Economy and Consumer Programs, NHTSA, 400 Seventh Street, SW., Washington, DC 20590. Ms. Proctor's phone number is (202) 366-0846. Her fax number is (202) 493-2290.

SUPPLEMENTARY INFORMATION: In a petition dated December 20, 2004, Ford requested an exemption from the parts marking requirements of the theft prevention standard (49 CFR part 541) for the Ford Thunderbird vehicle line, beginning with model year (MY) 2006. The petition requested an exemption from the parts marking requirements pursuant to 49 CFR part 543, Exemption from Vehicle Theft Prevention Standard, based on the installation of an antitheft device as standard equipment for the entire vehicle line. The agency granted in full the petition of Ford for exemption of the Ford Thunderbird from the parts marking requirements beginning with the 2006 model year. (See 70 FR 12780).

Ford informed the agency by letter dated August 5, 2005, that it was withdrawing its petition for exemption for the Ford Thunderbird vehicle line. Ford also stated that it will discontinue production of the Thunderbird vehicle line effective the end of the 2005 MY. This notice acknowledges Ford's request for withdrawal of its December 5, 2004 petition for exemption. Accordingly, the Ford Thunderbird vehicle line will remain subject to the parts marking requirements of 49 CFR part 541 until production ends.

Authority: 49 U.S.C. 33106; delegation of authority at 49 CFR 1.50.

Issued on: September 1, 2005.
Stephen R. Kratzke,
Associate Administrator for Rulemaking.

[FR Doc. 05-17842 Filed 9-8-05; 8:45 am]

BILLING CODE 4910-59-P